DEPARTMENT OF HEALTH AND HUMAN SERVICES

National Institutes of Health

Center for Scientific Review; Amended Notice of Meeting

Notice is hereby given of a change in the meeting of the Center for Scientific Review Special Emphasis Panel, July 19, 2001, 9 a.m. to July 20, 2001, 4 p.m., St. James Hotel, 950 24th Street, NW., Washington, DC, 20037 which was published in the Federal Register on July 9, 2001, 66 FR 35803-35804.

The meeting will be one day only, July 19, 2001. The time and location remain the same. The meeting is closed to the public

Dated: July 16, 2001.
LaVerne Y. Stringfield,
Director, Office of Federal Advisory Committee Policy.

[FR Doc. 01-18273 Filed 7-20-01; 8:45 am]

BILLING CODE 4140-01-M